FEDERAL FINANCIAL INSTITUTIONS EXAMINATION COUNCIL

[Docket No. AS13-12]

Appraisal Subcommittee; Notice of Meeting

AGENCY: Appraisal Subcommittee of the Federal Financial Institutions Examination Council.

ACTION: Notice of meeting.

Description: In accordance with Section 1104(b) of Title XI of the Financial Institutions Reform, Recovery, and Enforcement Act of 1989, as amended, notice is hereby given that the Appraisal Subcommittee (ASC) will meet in closed session:

Location: OCC—400 7th Street SW., Washington, DC 20024.

Date: May 21, 2013 (rescheduled from May 8th).

Time: Immediately following the ASC open session.

Status: Closed.

Matters To Be Considered

April 10, 2013 minutes—Closed Session

Preliminary discussion of State Compliance Reviews

Dated: May 9, 2013.
James R. Park,
Executive Director.

[FR Doc. 2013-11374 Filed 5-13-13; 8:45 am]

BILLING CODE P